DEPARTMENT OF THE INTERIOR

Notice of Availability

AGENCY: National Park Service, Interior.

ACTION: Notice of availability of a Draft Environmental Impact Statement for the Low Country Gullah Culture Special Resource Study.

SUMMARY: Pursuant to section 102(2)(c) of the National Environmental Policy Act of 1969 (42 U.S.C. 4332; 40 CFR 1503.1) the National Park Service announces the availability of a Draft Environmental Impact Statement (DEIS) for the Low Country Gullah Culture Special Resource Study. The document describes ways that the National Park Service can assist in preserving Gullah culture (more commonly known as Geechee in Georgia and Florida) by outlining four management alternatives for consideration by Congress, including a no-action alternative. The DEIS analyzes the environmental impacts of those alternatives considered for the future protection, interpretation, and management of Gullah cultural resources. The study area stretches along the southeastern United States coast roughly from the Cape Fear River in North Carolina to the St. John's River in Florida and approximately 30 miles inland.

DATES: There will be a 60-day comment period beginning with the Environmental Protection Agency's publication of its notice of availability in the Federal Register.

ADDRESSES: Copies of the DEIS are available by contacting Cynthia Porcher, Charles Pinckney National Historic Site, 1214 Middle Street, Sullivan's Island, South Carolina, 29482. An electronic copy of the DEIS is available on the Internet at http://www.nps.gov/sero/ggsrs/gg_res.htm.

SUPPLEMENTARY INFORMATION: The National Park Service held community and stakeholder meetings to gather advice and feedback on desired outcomes of the study. The meetings assisted the National Park Service in developing alternatives for managing associated cultural and natural resources and creating interpretive and educational programs. The alternatives were presented at community forums in October and November 2002. Responses from the meetings were incorporated into the four alternatives described in the study. Under Alternative A, three coastal centers would be established through partnerships with government agencies and nonprofit organizations. The centers would be dispersed along the southeastern U.S. coast where host and neighboring communities could provide support. The centers would interpret the history and evolving culture of the Gullah people from colonial times to the 21st Century and would provide learning opportunities for the casual visitor as well as residents of communities. Under Alternative B, existing national park units would collaborate with state and local park sites located in the project area to administer multi-partner interpretive and educational programs. Cooperative agreements among agencies would identify and delegate administrative, operational, and program functions for each partner. Under Alternative C, a National Heritage Area would be established to connect and associate Gullah resources. The National Park Service would provide startup and related administrative assistance for the heritage area. Overall management of the heritage partnership would eventually be administered by one or more local entities that would guide and oversee the goals and objectives of the heritage area. Under Alternative D, Alternatives A and C would be combined into a single alternative.

It is the practice of the National Park Service to make comments, including names and home addresses of respondents, available for public review during regular business hours. Anonymous comments will not be considered. We will make all submissions from organizations or businesses, and from individuals identifying themselves as representatives or officials of organizations or businesses, available for public inspection in their entirety. However, individual respondents may request that we withhold their names and addresses from the public record, and we will honor such requests to the extent allowed by law. If you wish to withhold your name and/or address, you must state that request prominently at the beginning of your comment.

FOR FURTHER INFORMATION CONTACT: Cynthia Porcher, (803) 881-5516 or John Barrett, 404-562-3124, extension 637.

The responsible official for this draft Environmental Impact Statement is Patricia A. Hooks, Acting Regional Director, Southeast Region, National Park Service, 100 Alabama Street SW., 1924 Building, Atlanta, Georgia 30303.

Dated: October 22, 2003.
Wally Hibbard,
Acting Deputy Regional Director, Southeast Region.

[FR Doc. 03-29501 Filed 11-25-03; 8:45 am]

BILLING CODE 4310-66-P